DEPARTMENT OF JUSTICE

[AAG/A Order No. 249-2001]

Privacy Act of 1974; Notice of the Removal of a System of Records

Pursuant to the provisions of the Privacy Act of 1974 (5 U.S.C. 552a), the Bureau of Prisons (BOP), Department of Justice is removing a published Privacy Act system of records entitled “NIC Field Readers List, Justice/BOP-102.” Some records have been transferred to the system of records entitled “NIC Mailing List and Information Center Contacts, Justice/BOP-104.” The remaining records have been destroyed in accordance with approved records retention and disposal schedules. The National Archives and Records Administration removed the requirement that any records be offered for permanent retention. Therefore, the “NIC Field Readers List,” last published in the Federal Register on April 18, 1983, at 65 FR 16652, is removed from the Department's compilation of Privacy Act systems.

Dated: October 26, 2001.
Janis A. Sposato,
Acting Assistant Attorney General for Administration.

[FR Doc. 01-28362 Filed 11-9-01; 8:45 am]

BILLING CODE 4410-05-M